DEPARTMENT OF TRANSPORTATION

Federal Aviation Administration

14 CFR Part 71

[Docket No. FAA-2021-0296; Airspace Docket No. 21-ASW-6]

RIN 2120-AA66

Proposed Revocation of Class E Airspace; Palestine, TX: Withdrawal

AGENCY: Federal Aviation Administration (FAA), DOT.

ACTION: Notice of proposed rulemaking (NPRM); withdrawal.

SUMMARY: The FAA is withdrawing the NPRM published in the Federal Register on May 20, 2021, to amend Class E airspace extending upward from 700 feet above the surface at Palestine Municipal Airport, Palestine, TX. Upon further consideration, the FAA has determined that an operational requirement for the airspace still exists; therefore, withdrawal of the proposed rule is warranted.

DATES: The FAA is withdrawing the proposed rule published May 20, 2021 (86 FR 27327), as of August 31, 2021.

FOR FURTHER INFORMATION CONTACT: Rebecca Shelby, Federal Aviation Administration, Operations Support Group, Central Service Center, 10101 Hillwood Parkway, Fort Worth, TX 76177; telephone (817) 222-5857.

SUPPLEMENTARY INFORMATION:

History

On May 20, 2021, the FAA published in the Federal Register (86 FR 27327; May 20, 2021) for Docket No. FAA-2021-0296, an NPRM proposing to modify Class E airspace extending upward from 700 feet above the surface at Palestine, TX, due to the decommissioning of the Palestine NDB and associated extension from the airspace legal description; and updating the geographic coordinates of the airport to coincide with the FAA's aeronautical database.

FAA's Conclusions

In reviewing the NPRM, we have determined that the amending of the Class E airspace would increase the radius of the airspace to 8.2 miles from the current 7.1 mile radius, rather than reducing the radius to 6.2 miles, as proposed in the NPRM. In addition, the current airspace definition doesn't include the Palestine NDB or any associated extension. The proposed rule would also need to include removal of the Frankston VOR/DME and the associated extension. The FAA has concluded that this NPRM needs to be withdrawn, and the FAA will begin the process again with a new NPRM.

List of Subjects in 14 CFR Part 71

Airspace, Incorporation by reference, Navigation (air).

The Withdrawal

Accordingly, pursuant to the authority delegated to me, the NPRM published in the Federal Register on May 20, 2021 (86 FR 27328) [FR Doc. 2021-10560] is hereby withdrawn.

Authority: 49 U.S.C. 106(f), 106(g); 40103, 40113, 40120; E.O. 10854, 24 FR 9565, 3 CFR, 1959-1963 Comp., p. 389.

Issued in Fort Worth, Texas, on August 24, 2021.
Martin A. Skinner,
Manager, Operations Support Group, ATO Central Service Center.

[FR Doc. 2021-18638 Filed 8-30-21; 8:45 am]

BILLING CODE 4910-13-P